DEPARTMENT OF HEALTH AND HUMAN SERVICES

Health Care Financing Administration

[HCFA-3068-N]

Medicare Program; Educational Symposium To Discuss the Use of Evidence-Based Medicine in the Medicare Coverage Decision Process—May 3, 2001

AGENCY: Health Care Financing Administration (HCFA), HHS.

ACTION: Notice of meeting.

SUMMARY: This document announces an educational symposium open to all interested parties at which presenters will describe evidence-based medicine and its role in the decision making process for Medicare coverage issues. This meeting represents one aspect of the evolving process for making the Medicare coverage process more open and comprehensible to the public.

DATES: The Meeting: The meeting will be held on May 3, 2001, from 8 a.m. until 12 noon, E.D.T.

Special Accommodations: Persons attending the meeting who are hearing or visually impaired, or have a condition that requires special assistance or accommodations, are asked to notify the FOR FURTHER INFORMATION CONTACT person by April 20, 2001.

ADDRESSES: The meeting will be held at the HCFA headquarters MultiPurpose Room, 7500 Security Boulevard, Baltimore, Maryland 21244. Seating in the MultiPurpose Room is limited to 150 persons, and is available on a first come, first served basis.

FOR FURTHER INFORMATION CONTACT: Janet Anderson at 410-786-2700, email JAnderson@hcfa.gov, or Janet Anderson, Coverage and Analysis Group, 7500 Security Blvd, mailstop S3-02-01, Baltimore, MD 21244.

SUPPLEMENTARY INFORMATION:

I. Background

On April 27, 1999, we published a general notice in the Federal Register (64 FR 22619) that announced the process we use to make national coverage decisions under the Medicare program. In the notice, we explained that these coverage decisions are prospective, population-based policies that apply to a clinical subset or class of Medicare beneficiaries. We described the clinical circumstances and setting under which an item or service is available (or not available). We included information and approaches we are considering for making coverage decisions. One approach is the use of the principles of evidence-based medicine in evaluating the effectiveness of health services. We also clarified that the notice was not intended to address individual medical necessity determinations and claims adjudication by our contractors and other adjudicators, nor was it intended to address changes in current Medicare payment policies.

On August 13, 1999, we published a notice in the Federal Register (64 FR 44231) to describe the Medicare Coverage Advisory Committee (MCAC), which provides advice and recommendations to us about clinical issues. The MCAC is charged with providing recommendations on a variety of topics relating to the effectiveness of health services. The MCAC uses guidelines for evaluating evidence through applying criteria that employs the principles of evidence-based medicine.

Since the publication of these Federal Register notices we have employed the principles of evidence-based medicine in the coverage process, both in the creation of decision memorandum and in involvement with the MCAC.

II. Format of Meeting

We will begin the meeting with a brief overview of the purpose of the meeting. Following this introduction, there will be an informative presentation highlighting the principles of evidence-based medicine. This discussion will then be followed by presentations given by experts who have experience with the use of evidence-based medicine in the coverage decision process. Public comments and questions to the panel will follow these last presentations.

III. Registration

Since seating is limited to 150 persons, and is available on a first come, first served basis, prior registration with the contact person is not necessary.

Authority: 5 U.S.C. App. 2, section 10(a)(1) and (a)(2).

(Catalog of Federal Domestic Assistance Program No. 93.774, Medicare—Supplementary Medical Insurance Program)

Dated: April 6, 2001.
Jeffrey L. Kang, M.D.,
Director, Office of Clinical Standards and Quality, Health Care Financing Administration.

[FR Doc. 01-9257 Filed 4-12-01; 8:45 am]

BILLING CODE 4120-01-P